DEPARTMENT OF AGRICULTURE

Food and Nutrition Service

Agency Information Collection Activities: Recordkeeping of D-SNAP Benefit Issuance and Commodity Distribution for Disaster Relief

AGENCY: Food and Nutrition Service (FNS), USDA.

ACTION: Notice.

SUMMARY: In accordance with the Paperwork Reduction Act of 1995, this notice invites the general public and other public agencies to comment on this proposed information collection. This collection is a revision of a currently approved collection.

DATES: Written comments must be received on or before June 12, 2017.

ADDRESSES: Comments regarding recordkeeping for form FNS-292A may be sent to Erica Antonson, Chief, Policy Branch, Food Distribution Division, Food and Nutrition Service, U.S. Department of Agriculture, 3101 Park Center Drive, Room 506, Alexandria, VA 22302. Comments may also be submitted via fax to the attention of Ms. Antonson at 703-305-2956 or via email to Erica.Antonson@fns.usda.gov.

Comments regarding recordkeeping for form FNS-292B may be sent to Sasha Gersten-Paal, Chief, Certification Policy Branch, Program Development Division, Food and Nutrition Service, U.S. Department of Agriculture, 3101 Park Center Drive, Room 506, Alexandria, VA 22302. Comments may also be submitted via fax to the attention of Ms. Gersten-Paal at 703-305-2507 or via email to Sasha.Gersten-Paal@fns.usda.gov.

Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Erica Antonson at 703-305-2956, to Sasha Gersten-Paal at 703-305-2507.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Report of Disaster Supplemental Nutrition Assistance Program Benefit Issuances and Report of Commodity Distribution for Disaster Relief.

Form Number: FNS-292A and FNS-292B.

OMB Number: 0584-0037.

Expiration Date: 8/31/2017.

Type of Request: Revision of a currently approved collection.

Abstract: This information collection pertains only to the recordkeeping burden associated with forms FNS-292A and FNS-292B. The reporting burden associated with these forms is approved under OMB No. 0584-0594 (Food Program Reporting System; expiration date: 09/30/2019). The Food and Nutrition Service (FNS) utilizes forms FNS-292A and FNS-292B to collect information not otherwise available on the extent of FNS-funded disaster relief operations. Form FNS-292A, Report of Commodity Distribution for Disaster Relief, is used by State distributing agencies to provide a summary report to FNS following termination of disaster commodity assistance and to request replacement of donated foods distributed during the disaster or situation of distress. Donated food distribution in disaster situations is authorized under Section 32 of the Act of August 24, 1935 (7 U.S.C. 612c); Section 416 of the Agricultural Act of 1949 (7 U.S.C. 1431); Section 709 of the Food and Agriculture Act of 1965 (7 U.S.C. 1446a-1); Section 4(a) of the Agriculture and Consumer Protection Act of 1973 (7 U.S.C. 612c note); and by Sections 412 and 413 of the Robert T. Stafford Disaster Relief and Emergency Assistance Act (42 U.S.C. 5179, 5180). Program implementing regulations are contained in Part 250 of Title 7 of the Code of Federal Regulations (CFR). In accordance with 7 CFR 250.69(f), State distributing agencies shall provide a summary report to FNS within 45 days following termination of the disaster assistance, and maintain records of these reports and other information relating to disasters. Form FNS-292B, Report of Disaster Supplemental Nutrition Assistance Benefit Issuance, is used by State agencies to report to FNS the number of households and persons certified for Disaster Supplemental Nutrition Assistance Program (D-SNAP) benefits as well as the value of benefits issued. D-SNAP is a separate program from the Supplemental Nutrition Assistance Program (SNAP) and is authorized by Sections 402 and 502 of the Robert T. Stafford Disaster Relief and Emergency Assistance Act (42 U.S.C. 5121 et seq.) and the temporary emergency provisions contained in Section 5 of the Food and Nutrition Act of 2008, and in 7 CFR part 280 of the SNAP regulations. State agencies may operate a D-SNAP to address the temporary food needs of applicants in an affected area of a State that has received a Presidential declaration of “Major Disaster” with Individual Assistance. The State agency must submit its final FNS-292B to FNS within 45 days of terminating D-SNAP operations, and maintain records of this report.

Affected Public: State agencies that administer FNS disaster food relief activities.

Estimated Number of Respondents: 55.

Estimated Number of Responses per Respondent: 2 recordkeeping responses per State agency.

Estimated Total Annual Responses: 110.

Estimated Time per Response: Recordkeeping burden for the State agencies is estimated to be 5 minutes (.084 hours) per form (FNS-292A and FNS-292B) per respondent (total of 10 minutes (.168 hours) per respondent).

Estimated Total Annual Burden on Respondents: Recordkeeping burden for the State agencies is estimated to be 5 minutes (.084 hours) per form (FNS-292A and FNS-292B) per respondent (total of 10 minutes (.168 hours) per respondent) for a total of 9.24 hours.

Respondent | Estimated number of recordkeepers | Number of records per recordkeeper | Total annual records (Col. bxc) | Estimated avg. number of hours per record | Estimated total hours (Col. dxe)
Record Keeping Burden
State Agencies—Commodity Distribution Form FNS-292A | 55 | 1.00 | 55 | 0.084 | 4.62
State Agencies—Commodity Distribution Form FNS-292B | 55 | 1.00 | 55 | 0.084 | 4.62
Total Record Keeping Burden | 55 | 2.00 | 110 | 0.168 | 9.24
Total Burden | 55 |  | 110 |  | 9.24

Dated: March 27, 2017.
Jessica Shahin,
Acting Administrator, Food and Nutrition Service.

[FR Doc. 2017-07413 Filed 4-11-17; 8:45 am]

BILLING CODE 3410-30-P